DEPARTMENT OF TRANSPORTATION

Federal Aviation Administration

Public Notice for Waiver of Aeronautical Land-Use Assurance; Willow Run Airport, Detroit, Michigan

AGENCY: Federal Aviation Administration (FAA), DOT.

ACTION: Notice of intent of waiver with respect to land.

SUMMARY: The FAA is considering a proposal to change 3.44 acres of airport land from aeronautical use to non-aeronautical use and to authorize the sale of airport property located at Willow Run Airport, Detroit, Michigan. The aforementioned land is not needed for aeronautical use.

The property is located in the southwest corner of the airport. It is outside of the airport operations area and is currently used as a Hazardous Waste Landfill. In 1996 the Federal Aviation Administration released 13.34 acres on this site to accommodate the Landfill. This proposal will release the remainder of the site. The proposed use will remain as a Hazardous Waste Landfill.

DATES: Comments must be received on or before October 10, 2017.

ADDRESSES: Documents are available for review by appointment at the FAA Detroit Airports District Office, Alex Erskine, Program Manager, 11677 South Wayne Road, Suite 107, Romulus, Michigan 48174. Telephone: (734) 229-2927/Fax: (734) 229-2950 and Mr. Kevin C. Clark, Assistant General Counsel, Wayne County Airport Authority, L.C. Smith Building-Mezzanine, Detroit, Michigan 48242. Telephone: (734) 247-7333.

Written comments on the Sponsor's request must be delivered or mailed to: Alex Erskine, Program Manager, Federal Aviation Administration, Detroit Airports District Office, 11677 South Wayne Road, Suite 107, Romulus, Michigan 48174, Telephone Number: (734) 229-2927/FAX Number: (734) 229-2950.

FOR FURTHER INFORMATION CONTACT: Alex Erskine, Program Manager, Federal Aviation Administration, Detroit Airports District Office, 11677 South Wayne Road, Suite 107, Romulus, Michigan 48174, Telephone Number: (734) 229-2927/FAX Number: (734) 229-2950.

SUPPLEMENTARY INFORMATION: In accordance with section 47107(h) of Title 49, United States Code, this notice is required to be published in the Federal Register 30 days before modifying the land-use assurance that requires the property to be used for an aeronautical purpose.

The property is outside of the airport operations area and is currently used as a Hazardous Waste Landfill. The property is surplus property from the U.S. Government. It was initially transferred to the University of Michigan in 1947. In 1977, the University of Michigan transferred title of the Willow Run Airport, including this parcel, to the County of Wayne, Michigan. In 1996 the Federal Aviation Administration released 13.34 acres on this site to accommodate the landfill. This proposal will release the remainder of the site. The proposed use will remain as a Hazardous Waste Landfill. The airport sponsor is now requesting to transfer title to this property to Ford Motor Company which is currently operating the landfill.

This notice announces that the FAA is considering the release of the subject airport property at the Willow Run Airport, Detroit, Michigan from federal land covenants, subject to a reservation for continuing right of flight as well as restrictions on the released property as required in FAA Order 5190.6B section 22.16. Approval does not constitute a commitment by the FAA to financially assist in the disposal of the subject airport property nor a determination of eligibility for grant-in-aid funding from the FAA.

Part of the NW ¼ and the SW ¼ of Section 18, T3S-R8E, Van Buren Township, Wayne County, Michigan, more particularly described as follows: Commencing at the NW Corner of Section 18, thence along the West line of Section 18, S 02°19′10″ E., 2647.93 feet, to the West ¼ Corner of Section 18; thence along the East-West ¼ line of Section 18, N 88°35′19″ E., 464.50 feet, to the POINT OF BEGINNING of the parcel to be described; thence along the West line of Willow Run Airport, the following 2 courses. (1) N 35°26′31″ W., 214.67 feet and (2) N 08°48′40″ W., 85.44 feet; thence N 48°25′55″ E., 598.34 feet; thence S 41°34′37″ E., 1103.42 feet; thence S 48°26′41″ W., 21.19 feet; thence S 41°34′42″ E., 39.06 feet; thence S 48°26′06″ W., 225.00 feet; thence N 41°35′53″ W., 39.09 feet; thence S 48°26′41″ W., 110.59 feet; thence S 85°05′04″ W., 235.97 feet; thence S 48°25′42″ W., 157.05 feet; thence N 35°24′30″ W., 80.73 feet; thence S 48°28′06″ W., 51.83 feet; thence along the West line of Willow Run Airport, the following 2 courses. (1) N 06°54′08″ W., 30.40 feet and (2) N 35°26′31″ W., 575.17 feet to the POINT OF BEGINNING, EXCEPTION the following described parcel. Part of the NW ¼ and the SW ¼ of Section 18, T3S-R8E, Van Buren Township, Wayne County, Michigan, more particularly described as follows: Commencing at the NW Corner of Section 18, thence along the West line of Section 18, S 02°19′10″ E., 2647.93 feet, to the West ¼ Corner of Section 18; thence along the East-West ¼ line of Section 18, N 88°35′19″ E., 509.41 feet, to the POINT OF BEGINNING of the parcel to be described; thence N 35°25′12″ W., 202.94 feet; thence N 48°25′50″ E., 590.22 feet; thence S 41°34′37″ E., 1030.00 feet; thence S 48°26′06″ W., 225.00 feet; thence N 41°35′53″ W., 180.00 feet; thence S 48°25′42″ W., 456.87 feet; thence N 35°24′30″ W., 651.98 feet to the POINT OF BEGINNING containing 3.44 acres, more or less. Being subject to any and all easements, reservations or restrictions of record.

Issued in Romulus, Michigan, on August 17, 2017.
John L. Mayfield, Jr.,
Manager, Detroit Airports District Office, FAA, Great Lakes Region.

[FR Doc. 2017-18323 Filed 9-6-17; 8:45 am]

BILLING CODE P